DEPARTMENT OF STATE

[Public Notice 9910]

U.S. Department of State Advisory Committee on Private International Law (ACPIL): Public Meeting on Electronic Commerce—Electronic Transferable Records

The Office of the Assistant Legal Adviser for Private International Law, Department of State, gives notice of a public meeting to discuss a model law on electronic transferable records prepared by Working Group IV of the United Nations Commission on International Trade Law (UNCITRAL). The public meeting will take place on Monday, March 27, 2017 from 9:30 a.m. until 12 p.m. EDT. This is not a meeting of the full Advisory Committee.

The UNCITRAL Working Group has completed its work on the model law and has requested that the UNCITRAL Secretariat transmit the text of the draft model law, including accompanying explanatory notes, for consideration at the upcoming Commission session, which commences in June. In advance of the Commission session, the Secretariat has provided these texts to UNCITRAL member states for comment.

The purpose of the public meeting is to obtain the views of concerned stakeholders on the draft text, which is numbered A/CN.9/920 and is available at http://daccess-ods.un.org/access.nsf/Get?OpenAgent&DS=A/CN.9/920&Lang=E, so that the United States may decide whether to provide any comments to the Secretariat and the Commission. As the UNCITRAL member states have been asked to provide specific and succinct comments, the public meeting will focus on the text drafted by the UNCITAL Working Group. Participants in the public meeting should read the text in advance of the meeting and should be prepared with particular comments on the draft. Those who cannot attend but wish to comment are welcome to do so by email to Michael Coffee at coffeems@state.gov.

Time and Place: The meeting will take place on March 27, 2017, from 9:30 a.m. until 12 p.m. EDT in Room 356, South Building, State Department Annex 4A, Washington, DC 20037. Participants should plan to arrive at the Navy Hill gate on the west side of 23rd Street NW., at the intersection of 23rd Street NW., and D Street NW., by 9:00 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than March 20, 2017. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Michael S. Coffee,
Attorney-Adviser, Office of Private International Law, Office of the Legal Adviser, Department of State.

[FR Doc. 2017-04575 Filed 3-8-17; 8:45 am]

BILLING CODE 4710-08-P